SMALL BUSINESS ADMINISTRATION

[Disaster Declaration #11138]

Washington Disaster Number WA-00016

AGENCY: U.S. Small Business Administration.

ACTION: Amendment 1.

SUMMARY: This is an amendment of the Presidential declaration of a major disaster for Public Assistance Only for the State of Washington (FEMA-1734-DR), dated 12/08/2007.

Incident: Severe Storms, Flooding, Landslides, and Mudslides.

Incident Period: 12/01/2007 and continuing..

EFFECTIVE DATE: 12/19/2007.

Physical Loan Application Deadline Date: 02/07/2008.

ADDRESSES: Submit completed loan applications to: U.S. Small Business Administration, Processing and Disbursement Center, 14925 Kingsport Road, Fort Worth , TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Washington, 12/08/2007, is hereby amended to include the following areas as adversely affected by the disaster.

Primary Counties:

Clallam, Jefferson, King, Skagit, Snohomish, Wahkiakum.

All other information in the original declaration remains unchanged.

(Catalog of Federal Domestic Assistance Number 59008).

James E. Rivera,
Acting Associate Administrator for Disaster Assistance.

[FR Doc. E8-339 Filed 1-10-08; 8:45 am]

BILLING CODE 8025-01-P